DEPARTMENT OF HEALTH AND HUMAN SERVICES

Administration for Children and Families

Submission for OMB Review; Comment Request

Title: The Evaluation of Early Learning Mentor Coaches Grants.

OMB No.: New Collection.

Description: The Administration for Children and Families is requesting comments on a submission for OMB review for a proposed information collection as part of an implementation evaluation of the Early Learning Mentor Coaches Grants. The evaluation will collect information necessary for understanding the approaches being used by the 131 Head Start and Early Head Start grantees who were awarded funds under the American Recovery and Reinvestment Act of 2009—Early Learning Mentor Coach funding announcement (Funding Opportunity Number HHS-201-ACF-OHSST-0120).

The overall objective of the evaluation of the Early Learning Mentor Coaches (ELMC) Grants is to identify the critical aspects of the ELMC grant initiative by (1) Describing the implementation of the ELMC grants in HS and EHS programs; (2) examining the implementation quality of ELMC efforts; and (3) examining factors that might be related to successful mentor-coaching. To meet these objectives the evaluation will capture information to describe the goals for the mentor-coaching initiative, the key features of the mentor-coaching approaches, how grantees structured their initiatives, the integration of mentor-coaching into ongoing program operations, and plans for sustainability. Additionally, the evaluation will capture information to describe the quality of the implementation of the various mentor-coaching approaches including consistency of the mentor-coach implementation with the planned approach, the frequency and content of interactions between the mentor-coaches and the teaching staff, and apparent changes in teaching staff behavior, including their own professional development. The evaluation will also capture information about the characteristics of those who provided coaching, the characteristics of teaching staff that were mentored, as well as the characteristics of the settings and the systems in which the mentor-coaching was embedded. Lastly, the evaluation will document the factors that appear to be most critical to successful implementation and implementation challenges.

The data collection will include a census survey of all grantees; a census survey of all mentor-coaches; telephone interviews with a sub-sample of administrators, mentor-coaches, and teaching staff; and a mentor-coach activity snapshot.

Respondents: Grantee and center administrative staff, mentor-coaches, teaching staff.

Annual Burden Estimates
Instrument | Annual number of respondents | Number of responses per respondent | Average burden hours per response | Total annual burden hours
Grantee Census Survey | 131 | 1 | 0.5 | 66
Mentor-Coach Census Survey | 400 | 1 | 0.5 | 200
Administrator Telephone Interview | 85 | 1 | 1.0 | 85
Mentor-Coach Telephone Interview | 65 | 1 | 1.0 | 65
Teaching Staff Telephone Interview | 130 | 1 | 1.0 | 130
Mentor-Coach Activity Snapshot | 65 | 2 | 0.25 | 33

Estimated Total Annual Burden Hours: 579.

Additional Information: In compliance with the requirements of Section 3506(C)(2)(A) of the Paperwork Reduction Act of 1995, the Administration for Children and Families is soliciting public comment on the specific aspects of the information collection described above. Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: May 17, 2011.
Steven M. Hanmer,
OPRE Reports Clearance Officer.

[FR Doc. 2011-12787 Filed 5-25-11; 8:45 am]

BILLING CODE 4184-22-M